DEPARTMENT OF DEFENSE

Department of the Air Force

U.S. Air Force Academy Board of Visitors Notice of Meeting; Withdrawal

AGENCY: U.S. Air Force Academy Board of Visitors, DoD.

ACTION: Meeting notice; withdrawal.

SUMMARY: The document titled “U.S Air Force Academy Board of Visitors Notice of Meeting”, which published in the Federal Register on March 7, 2016 (81 FR 11764), is withdrawn. Due to circumstances beyond the Air Force's control, the meeting notice for the upcoming USAF BoV meeting was published in the Federal Register with less than 15 days' notice to the public and therefore has to be revised to include a waiver notice. The revised document will be published in the Federal Register.

FOR FURTHER INFORMATION CONTACT: For additional information or to attend this BoV meeting, contact Major Jennifer Hubal, Accessions and Training Division, AF/A1PT, 1040 Air Force Pentagon, Washington, DC 20330, (703) 695-4066, Jennifer.M.Hubal.mil@mail.mil.

Henry Williams,
Acting Air Force Federal Register Liaison Officer.

[FR Doc. 2016-05947 Filed 3-15-16; 8:45 am]

BILLING CODE 5001-10-P